DEPARTMENT OF TRANSPORTATION

Office of the Secretary

Aviation Proceedings, Agreements Filed the Week Ending, June 1, 2007

The following Agreements were filed with the Department of Transportation under the Sections 412 and 414 of the Federal Aviation Act, as amended (49 U.S.C. 1383 and 1384) and procedures governing proceedings to enforce these provisions. Answers may be filed within 21 days after the filing of the application.

Docket Number: OST-2007-28359.

Date Filed: May 29, 2007.

Parties: Members of the International Air Transport Association.

Subject: Mail Vote 537—Cargo Composite Expedited Resolutions. (Memo 0595). Intended effective date: 1 July 2007.

Docket Number: OST-2007-28360.

Date Filed: May 29, 2007.

Parties: Members of the International Air Transport Association.

Subject: Mail Vote 538—Cargo Composite Resolutions. (Memo 0596). Intended effective date: 1 October 2007.

Renee V. Wright,
Program Manager, Docket Operations, Federal Register Liaison.

[FR Doc. E7-11422 Filed 6-13-07; 8:45 am]

BILLING CODE 4910-9X-P